DEPARTMENT OF COMMERCE

National Oceanic and Atmospheric Administration

[I.D. 080902B]

North Pacific Fishery Management Council; Notice of Committee Meeting

AGENCY: National Marine Fisheries Service (NMFS), National Oceanic and Atmospheric Administration (NOAA), Commerce.

ACTION: Committee Meeting.

SUMMARY: The North Pacific Fishery Management Council's (Council) Improved Retention/Improved Utilization (IR/IU) Technical Committee will meet in Seattle, Washington.

DATES: The Committee meeting is scheduled for August 28-29, 2002.

ADDRESSES: The meeting location is at the Alaska Fisheries Science Center, 7600 Sand Point Way NE, Bldg. 4, Room 2079, Seattle, Washington 98115.

Council address: North Pacific Fishery Management Council, 605 W. 4th Ave., Suite 306, Anchorage, AK 99501-2252.

FOR FURTHER INFORMATION CONTACT: Council Staff: 907-271-2809.

SUPPLEMENTARY INFORMATION: The Committee will meet from 9-5 p.m. The agenda consists of: A review of June 2002 Council motion, NMFS Management and Implementation considerations for IR/IU; an industry presentation of bycatch reduction cooperative proposals; a discussion of the selection of bycatch alternatives to be presented to the Council, and the development of work assignments and set the date for next meeting.

Although other issues not contained in this notice may come before the Committee for discussion, in accordance with the Magnuson-Stevens Fishery Conservation and Management Act, those issues may not be the subject of formal action during the meeting. Action will be restricted to those issues specifically identified in this notice.

Special Accommodations

This meeting is physically accessible to people with disabilities. Requests for sign language interpretation or other auxiliary aids should be directed to Gail Bendixen, 907-271-2809, at least 5 working days prior to the meeting date.

Dated: August 9, 2002.
Richard W. Surdi,
Acting Director, Office of Sustainable Fisheries, National Marine Fisheries Service.

[FR Doc. 02-20655 Filed 8-13-02; 8:45 am]

BILLING CODE 3510-22-S